NUCLEAR REGULATORY COMMISSION

10 CFR Part 52

[NRC-2015-0224]

RIN 3150-AJ67

Advanced Power Reactor 1400 (APR1400) Design Certification

AGENCY: Nuclear Regulatory Commission.

ACTION: Direct final rule; confirmation of effective date.

SUMMARY: The U.S. Nuclear Regulatory Commission (NRC) is confirming the effective date of September 19, 2019, for the direct final rule that was published in the Federal Register on May 22, 2019. This direct final rule amended NRC's regulations to certify the Advanced Power Reactor 1400 standard design so that applicants or licensees intending to construct and operate an Advanced Power Reactor 1400 standard design may do so by referencing the design certification rule.

DATES: Effective date: The effective date of September 19, 2019, for the direct final rule published May 22, 2019 (84 FR 23439), is confirmed.

ADDRESSES: Please refer to Docket ID NRC-2015-0224 when contacting the NRC about the availability of information for this action. You may obtain publicly-available information related to this action by any of the following methods:

• Federal Rulemaking Website: Go to https://www.regulations.gov and search for Docket ID NRC-2015-0224. Address questions about NRC dockets to Carol Gallagher; telephone: 301-415-3463; email: Carol.Gallagher@nrc.gov. For technical questions contact the individuals listed in the FOR FURTHER INFORMATION CONTACT section of this document.

• NRC's Agencywide Documents Access and Management System (ADAMS): You may obtain publicly-available documents online in the ADAMS Public Documents collection at https://www.nrc.gov/reading-rm/adams.html. To begin the search, select “Begin Web-based ADAMS Search.” For problems with ADAMS, please contact the NRC's Public Document Room (PDR) reference staff at 1-800-397-4209, at 301-415-4737, or by email to pdr.resource@nrc.gov.

• NRC's PDR: You may examine and purchase copies of public documents at the NRC's PDR, Room O1-F21, One White Flint North, 11555 Rockville Pike, Rockville, Maryland 20852.

FOR FURTHER INFORMATION CONTACT: Yanely Malave-Velez, Office of Nuclear Material Safety and Safeguards, telephone: 301-415-1519, email: Yanely.Malave@nrc.gov or William Ward, Office of New Reactors, telephone: 301-415-7038, email: William.Ward@nrc.gov. Both are staff of the U.S. Nuclear Regulatory Commission, Washington, DC 20555-0001.

SUPPLEMENTARY INFORMATION: On May 22, 2019 (84 FR 23439), the NRC published a direct final rule amending its regulations in part 52 of title 10 of the Code of Federal Regulations, “Domestic Licensing of Production and Utilization Facilities,” to certify the APR1400 standard design so that applicants or licensees intending to construct and operate an APR1400 design may do so by referencing the design certification rule. In the direct final rule, the NRC stated that if no significant adverse comments were received, the direct final rule would become effective on September 19, 2019. The NRC received one comment on the direct final rule from Jeffrey A. Ciocco, available in ADAMS under Accession No. ML19176A175.

The comment was in favor of the design certification and determined to not be significant and adverse. Because no significant adverse comments were received, the direct final rule will become effective as scheduled.

Paperwork Reduction Act Statement

The direct final rule contains a new or amended collection of information subject to the Paperwork Reduction Act of 1995 (44 U.S.C. 3501 et seq.). On July 2, 2019, NRC submitted the collection of information (3150-0236) to the Office of Management and Budget for review and approval. NRC will publish a separate notice in the Federal Register with the effective date of the information collection.

Public Protection Notification

The NRC may not conduct or sponsor, and a person is not required to respond to a collection of information unless the document requesting or requiring the collection displays a currently valid OMB control number.

Dated at Rockville, Maryland, this 12th day of August 2019.
For the Nuclear Regulatory Commission.
Cindy Bladey,
Chief, Regulatory Analysis and Rulemaking Support Branch, Division of Rulemaking, Office of Nuclear Material Safety and Safeguards.

[FR Doc. 2019-17588 Filed 8-15-19; 8:45 am]

BILLING CODE 7590-01-P